ENVIRONMENTAL PROTECTION AGENCY

40 CFR Part 52

[EPA-R08-OAR-2012-0026, FRL-9830-9]

Approval, Disapproval and Promulgation of Implementation Plans; State of Wyoming; Regional Haze State Implementation Plan; Federal Implementation Plan for Regional Haze; Notice of Public Hearings

AGENCY: Environmental Protection Agency (EPA).

ACTION: Notice of public hearings; extension of comment period.

SUMMARY: EPA has scheduled additional public hearings for our proposed action on Wyoming's State Implementation Plan (SIP) addressing regional haze under. We are making this change in response to letters submitted by the Governor of Wyoming on June 13, 2013, the Wyoming Congressional Delegation on June 14, 2013, and the Wyoming Department of Environmental Quality on June 14, 2013. The comment period for this action was scheduled to close on August 9, 2013. EPA is extending the comment period to August 26, 2013 to allow for a full 30 days for the submission of additional comments following the public hearings.

DATES: Public hearings for this proposal are scheduled to be held on July 17, 2013 at the Laramie County Library, Cottonwood Room, 2200 Pioneer Avenue, Cheyenne, Wyoming 82001 and on July 26, 2013 at the Oil & Gas Conservation Commission, Meeting Room 129, 2211 King Boulevard, Casper, Wyoming 82602. The public hearings will be held from 1 p.m. until 5 p.m. and again from 6 p.m. until 8 p.m. at both locations. The comment period for the proposed rule published June 10, 2013 at 78 FR 34738 is extended. Comments must be received on or before August 26, 2013.

FOR FURTHER INFORMATION CONTACT: Laurel Dygowski, EPA Region 8, Mailcode 8P-AR, 1595 Wynkoop Street, Denver, Colorado 80202-1129, (303) 312-6144, dygowski.laurel@epa.gov.

SUPPLEMENTARY INFORMATION: On June 10, 2013, we published a proposed rule partially approving and partially disapproving Wyoming's 40 CFR 51.309(g) regional haze SIP. 78 FR 34738. In our June 10, 2013 proposed rule, we provided notification that we were holding a public hearing on June 24, 2013, in Cheyenne, Wyoming. To partially accommodate requests for both additional time to prepare for public hearings and an extension to the public comment period in letters from the Governor of Wyoming on June 13, 2013, the Wyoming Congressional Delegation on June 14, 2013, and the Wyoming Department of Environmental Quality on June 14, 2013, we have scheduled additional public hearings as stated above and extended the public comment period to August 26, 2013.

The public hearings will provide interested parties the opportunity to present information and opinions to EPA concerning our proposal. Interested parties may also submit written comments, as discussed in the proposed rulemaking. Written statements and supporting information submitted during the comment period will be considered with the same weight as any oral comments and supporting information presented at the public hearings.

Dated: June 21, 2013.
Howard M. Cantor,
Acting Regional Administrator, Region 8.

[FR Doc. 2013-16295 Filed 7-5-13; 8:45 am]

BILLING CODE 6560-50-P